DEPARTMENT OF THE INTERIOR

Bureau of Land Management

[OR-090-05-1430-EU; GP-05-0016]

Modified Competitive Sale of Public Land; Oregon (OR 48830)

AGENCY: Bureau of Land Management (BLM), Interior.

ACTION: Notice of realty action.

SUMMARY: A 1.21 acre parcel of public land located in Lane County, Oregon is being considered for sale at not less than appraised market value. This parcel is proposed to be sold through modified competitive procedures.

DATES: Submit comments on or before June 6, 2005. Only written comments will be accepted.

ADDRESSES: Address all written comments concerning this Notice to Emily Rice, Upper Willamette Field Manager, BLM Eugene District Office, P.O. Box 10226, Eugene, Oregon 97440. Electronic format submittal will not be accepted.

FOR FURTHER INFORMATION CONTACT: David Schroeder, Realty Specialist, at (541) 683-6482.

SUPPLEMENTARY INFORMATION: The following described public land in Lane County, Oregon has been determined to be suitable for sale at not less than fair market value under Sections 203 and 209 of the Federal Land Policy and Management Act of 1976 (90 Stat. 2750, 43 U.S.C. 1713 and 1719). This land is difficult and uneconomic to manage as a part of the public lands and is not suitable for management by another Federal agency. No significant resource values will be affected by this disposal. The parcel proposed for sale is identified as suitable for disposal in the Eugene District Record of Decision and Resource Management Plan, dated June, 1995. The parcel proposed for sale is identified as follows:

Willamette Meridian, Oregon,

T. 18 S., R. 1 W.,

Sec. 26, Lots 8-10.

The area described contains 1.21 acres more or less. The market value for this land, including merchantable timber, has been determined by the BLM authorized officer to be $4,868.00, after taking into account a current appraisal of the land conducted in accordance with applicable appraisal standards.

There is no public access to the parcel, which is irregularly shaped and is part of a survey hiatus identified by the BLM in 1992. The parcel will be offered for sale at public auction using modified competitive bidding procedures authorized under 43 CFR 2711.3-2, because bidding for this parcel is open only to the following adjacent landowners (designated bidders): Gregg A. Vollstedt, Becky S. Vollstedt, William F. Cooper, Linda M. Cooper, Nadine Wilkes, Chris Meurer, Weyerhaeuser Co., John R. Klobas, Nancy L. Klobas, and Angelina Gomes.

The land will be offered for sale at public auction beginning at 10 a.m. (local time) on June 23, 2005, at the BLM Eugene District Office, 2890 Chad Drive, Eugene, Oregon, 97401-9336. Sale will be by sealed bid only. All sealed bids must be received by the BLM's Eugene District Office at 2890 Chad Drive, Eugene, Oregon, 97401-9336, (mailing address: P.O. Box 10226, Eugene, Oregon 97440) prior to 10 a.m. on June 23, 2005. Bid envelopes must be marked on the lower left front corner, “Sale OR 48830”. Bids must be for not less than the market value specified above in this Notice. Each sealed bid shall be accompanied by a certified check, postal money order, bank draft, or cashier's check made payable to the “Department of the Interior, BLM” for not less than 10 percent of the amount bid.

Under modified competitive sale procedures, the written sealed bids will be opened and an apparent high bid will be declared at the sale. The apparent high bidder and the other designated bidders will be notified by mail. In case of a tie of bids submitted by interested designated bidders, the interested designated bidders would be given an opportunity to submit a written agreement as to the division of the land, or an additional sealed bid, meeting the above-stated requirements, within 30 days of written notification of eligibility. At that time, the high bidder would become the purchaser and be awarded the property.

The purchaser will pay the balance of the purchase price to the Department of the Interior, BLM, at a closing to be held in the BLM, Eugene District Office not later than 180 days after the date of sale. The date and time of the closing will be determined by the BLM authorized officer after consultation with the purchaser.

Additional Terms and Conditions of Sale

If the parcel is not sold on June 23, 2005, the parcel will be re-offered on a continuing basis in accordance with the competitive sale procedures described in 43 CFR 2711.3-1. Sealed bids, prepared and submitted in the manner described above, will be accepted from any qualified bidder. Bids will be opened at 10 a.m. (local time), on the 13th day of each month thereafter, through July 13, 2005, unless an apparent high bid is declared prior to that date.

Federal law requires that public land may be sold only to either (1) Citizens of the United States, 18 years of age or over; (2) corporations subject to the laws of any State or of the United States; (3) a State, State instrumentality or political subdivision authorized to hold property; (4) an entity legally capable of conveying and holding lands or interests therein under the laws of the State within which the lands to be conveyed are located. Certifications and evidence to this effect will be required of the purchaser prior to issuance of a patent.

The following rights, reservations, and conditions will be included in the patent conveying the land:

1. A right-of-way for ditches and canals will be reserved to the United States under the authority of the Act of August 30, 1890 (26 Stat. 291; 43 U.S.C. 945).

2. The patent will include a notice and indemnification statement under the Comprehensive Environmental Response, Compensation and Liability Act (CERCLA). All parcels are subject to the requirements of section 120(h) (42 U.S.C. section 9620) holding the United States harmless from any release of hazardous materials that may have occurred as a result of the unauthorized use of the property by other parties. No warranty of any kind, express or implied, is given by the United States as to the title, physical condition or potential uses of the parcel of land proposed for sale, except as may be required by section 120(h) of CERCLA.

3. The patent will be issued subject to all valid existing rights and reservations of record.

A successful bid for the parcel will constitute an application for conveyance of the mineral interests in accordance with Section 209 of the Federal Land Policy and Management Act of 1976 (43 U.S.C. 1719). Those mineral interests, which will be conveyed simultaneously with the sale of the land, have been determined by BLM to have no known mineral value. At the closing, the purchaser will pay to the BLM a non-refundable fee of $50.00 in accordance with 43 CFR 2720.1-2(c).

In accordance with the goals in BLM Manual 2801.62A.1. and 2801.62B., the purchaser, at the closing and as a condition of the sale, the purchaser will grant an easement to Weyerhaeuser Company, for an existing road, which crosses Lot 8.

The land described herein is hereby segregated from appropriation under the public land laws, including the mining laws, pending disposition of the action or for 270 days from the date of publication of this notice, whichever occurs first.

Public Comments

Written comments will be accepted up until the date specified above. Detailed information concerning this land sale, including the reservations, sale procedures and conditions, appraisal, planning and environmental documents, and mineral report, is available for review at the BLM Eugene District Office, 2890 Chad Drive, Eugene, Oregon, 97401-9336.

Objections will be reviewed by the Eugene District Manager, who may sustain, vacate, or modify this realty action. In the absence of any objections, this proposal will become the final determination of the Department of the Interior.

Comments, including names, street addresses, and other contact information of respondents, will be available for public review. Individual respondents may request confidentiality. If you wish to request that BLM consider withholding your name, street address, and other contact information (such as: Internet address, FAX or phone number) from public review or from disclosure under the Freedom of Information Act, you must state this prominently at the beginning of your comment. The BLM will honor requests for confidentiality on a case-by-case basis to the extent allowed by law. The BLM will make available for public inspection in their entirety all submissions from organizations or businesses, and from individuals identifying themselves as representatives or officials of organizations or businesses.

Authority: 43 CFR 2711.1-2(c).

Dated: February 14, 2005.
Emily Rice,
Field Manager, Upper Willamette Resource Area.

[FR Doc. 05-8198 Filed 4-21-05; 8:45 am]

BILLING CODE 4310-33-P